DEPARTMENT OF JUSTICE

Antitrust Division

Notice Pursuant to the National Cooperative Research and Production Act of 1993—American Society of Mechanical Engineers

Notice is hereby given that, on November 13, 2009, pursuant to Section 6(a) of the National Cooperative Research and Production Act of 1993, 15 U.S.C. 4301 et seq. (“the Act”), American Society of Mechanical Engineers (“ASME”) has filed written notifications simultaneously with the Attorney General and the Federal Trade Commission disclosing additions or changes to its standards development activities. The notifications were filed for the purpose of extending the Act's provisions limiting the recovery of antitrust plaintiffs to actual damages under specified circumstances. Specifically, since July 15, 2009, “ASME” has published four new standards and initiated eight new standards activities, within the general nature and scope of ASME's standards development activities, as specified in its original notification. More detail regarding these changes can be found at www.asme.org.

On September 15, 2004, ASME filed its original notification pursuant to Section 6(a) of the Act. The Department of Justice published a notice in the Federal Register pursuant to Section 6(b) of the Act on October 13, 2004 (69 FR 60895).

The last notification was filed with the Department on July 20, 2009. A notice was published in the Federal Register pursuant to Section 6(b) of the Act on August 21, 2009 (74 FR 42329).

Patricia A. Brink,
Deputy Director of Operations, Antitrust Division.

[FR Doc. E9-29261 Filed 12-8-09; 8:45 am]

BILLING CODE 4410-11-M